DEPARTMENT OF TRANSPORTATION

Federal Aviation Administration

14 CFR Parts 21, 61, 91, 119, 125, 135, and 142

[Docket No. FAA-2001-10047; Amdt. Nos. 21-84, 61-109, 91-280, 119-7, 125-44, 135-91, 142-5]

RIN 2120-AH06

Regulation of Fractional Aircraft Ownership Programs and On-Demand Operations; Correction

AGENCY: Federal Aviation Administration (FAA), DOT.

ACTION: Final rule; correction.

SUMMARY: This document makes a correction to the amendment numbers in the final rule published in the Federal Register on September 17, 2003. That action updated and revised the regulations governing operations of aircraft in fractional ownership programs.

EFFECTIVE DATE: This correction is effective on February 11, 2004.

FOR FURTHER INFORMATION CONTACT: Katherine Hakala Perfetti, telephone (202) 267-3760.

Correction

In final rule FR Doc. 03-23021, published on September 17, 2003 (68 FR 54520), make the following corrections:

1. On page 54520, in column 1 in the heading section, beginning on line five, correct “Amdt. Nos. 21-84, 61-109, 91-274, 119-7, 125-44, 135-82, 142-5” to read “Amdt. Nos. 21-84, 61-109, 91-280, 119-7, 125-44, 135-91, 142-5”.

Issued in Washington, DC, on January 30, 2004.
Donald P. Byrne,
Assistant Chief Counsel for Regulations.

[FR Doc. 04-2873 Filed 2-10-04; 8:45 am]

BILLING CODE 4910-13-P